DEPARTMENT OF THE INTERIOR

National Park Service

Notice of Intent To Prepare an Exotic Plant Management Plan and Environmental Impact Statement for Nine Park Units in the Southeast Region

AGENCY: National Park Service, Interior.

ACTION: Notice.

SUMMARY: Notice is hereby given that in accordance with the National Environmental Policy Act of 1969 (42 U.S.C. 4332) (40 CFR 1503.1) and Council on Environmental Quality regulations (40 CFR 1506.6), the U.S. Department of the Interior, National Park Service will prepare an exotic plant management plan/environmental impact statement (Plan/EIS). The Plan/EIS will be used to guide the management and control of exotic plants and restoration of native plant communities in nine park units in South Florida and the Caribbean. The nine park units are Big Cypress National Preserve, Biscayne National Park, Canaveral National Seashore, Dry Tortugas National Park, Everglades National Park, Buck Island Reef National Monument, Christiansted National Historic Site, Salt River Bay National Historic Park and Ecological Preserve, and Virgin Islands National Park. The EIS will assess potential environmental impacts associated with various types of exotic plant control measures and native habitat restoration techniques on park resources such as native plants, threatened and endangered species, water quality and hydrology, wetlands, wildlife, cultural resources, and public health and safety.

DATES: To determine the scope of issues to be addressed in the plan and EIS and to identify significant issues related to the management and control of exotic plants in the nine park units, the National Park Service will conduct public scoping meetings in South Florida and the Caribbean. Representatives of the National Park Service will be available to discuss issues, resource concerns, and the planning process at each of the public meetings. When public scoping meetings have been scheduled, their locations, dates, and times will be published in local newspapers.

ADDRESSES: Any comments or requests for information should be addressed to Sandra Hamilton, National Park Service, Environmental Quality Division, Academy Place, P.O. Box 25287, Denver, Colorado 80225. Comments may also be submitted to the following email address: FLCA@den.nps.gov.

FOR FURTHER INFORMATION CONTACT: Sandra Hamilton, at (303) 969-2068. Email: Sandra_Hamilton@nps.gov.

SUPPLEMENTARY INFORMATION: In the United States, infestations of exotic plants are second only to land use changes as the cause of habitat loss and subsequent species endangerment. The threat of exotic species has grave implications for the preservation of natural and cultural resources throughout the National Park System. It is estimated that exotic plants infest approximately 1.5 million acres in the national park system, with some 400,000 acres of exotic plants within park units in Florida alone.

The presence and spread of exotic plants in park units in South Florida and the Caribbean threaten park natural and cultural resources. Exotic plant species threaten native plant communities, alter native habitat for plants and wildlife including threatened and endangered species, and disrupt natural processes, such as fire regime and hydrology. Cultural landscapes are altered by the presence of exotic plants, and excessive growth can threaten the integrity of historic or cultural structures. The National Park Service recognizes that to manage and control the spread of exotic plants more effectively, it is necessary to use a collaborative approach between park units, as commonalities exist between the units that lend themselves to broad management strategies.

The purpose of the Plan/EIS is to provide a programmatic framework for the nine South Florida and Caribbean parks:

• To manage and control exotic plants;

• To provide for the restoration of native species and habitat conditions in ecosystems that have been invaded;

• To protect park resources and values from adverse impacts resulting from the presence of exotic plants and control activities; and

• To provide consistency in planning for exotic plant management among the participating parks.

Our practice is to make the public comments we receive in response to planning documents, including names and home addresses of respondents, available for public review during regular business hours. We will make all submissions from organizations or businesses, and from individuals identifying themselves as representatives or officials of organizations or businesses, available for public inspection in their entirety. However, individual respondents may request that we withhold their names and addresses from the public record, and we will honor such requests to the extent allowed by law. If you wish to withhold your name and/or address, you must state that request prominently at the beginning of your comment. Anonymous comments will not be considered.

The draft and final Plan/EIS will be made available to all known interested parties and appropriate agencies. Full public participation by federal, state, and local agencies as well as other concerned organizations and private citizens is invited throughout the preparation process of this document.

The responsible official for this Plan/EIS is Patricia A. Hooks, Acting Regional Director, Southeast Region, National Park Service, 100 Alabama Street SW., 1924 Building, Atlanta, Georgia 30303.

Dated: December 3, 2003.
John Yancy,
Acting Regional Director, Southeast Region.

[FR Doc. 04-1287 Filed 1-21-04; 8:45 am]

BILLING CODE 4310-L6-P